DEPARTMENT OF JUSTICE

Notice of Lodging of the “AEP” Proposed Consent Decree Under the Clean Air Act

Pursuant to 28 CFR 50.7, notice is hereby given that on October 9, 2007 a proposed Consent Decree (“Consent Decree”) in United States, et al. v. American electric Power Service Corporation, et al., Civil Actions Nos. C2-99-1182, C2-99-1250, C2-04-1098, and C2-05-360, was lodged with the United States District Court for the Southern District of Ohio.

In these civil enforcement actions under the federal Clean Air Act (“Act”), the United States alleges that several American Electric Power subsidiaries (collectively (“AEP”) failed to comply with the New Source Review provisions of the Act and the State Implementation Plans of Indiana, Ohio, Virginia, and West Virginia. The complaints allege that AEP violated the Act by failing to (i) seek permits prior to making major modifications and (ii) install appropriate pollution control devices to reduce emissions of air pollutants from units at the following power plants: Tanners Creek in Indiana; Cardinal, Conesville, and Muskingum River in Ohio; Clinch River in Virginia; Amos, Kammer, Mitchell, and Sporn in West Virginia. The complaints seek both injunctive relief and civil penalty.

The Consent Decree lodged with the Court addresses all units at the nine power plants listed above as well as all units at the following seven AEP plants that were not part of the litigation: Rockport in Indiana; Big Sandy in Kentucky; Gavin and Picway in Ohio; Glen Lyn in Virginia; and Kanawha River and Mountaineer in West Virginia. The Consent Decree requires installation, upgrading, and continuous operation of pollution control devices on a number of the 46 units at the sixteen plants addressed in the settlement. The Consent Decree also imposes emissions caps that limit the total amount of nitrogen oxides and sulfur dioxide that can be collectively emitted by all 46 units at these plants, with a series of increasingly stringent limits beginning in 2009.

The Consent Decree also requires AEP to pay the United States a civil fine of $15 million and to pay $60 million for environmental mitigation projects, including projects to acquire and restore ecologically sensitive land in eastern states downwind of AEP plants, restore or improve watersheds and forests in national parks affected by past emissions, reduce nitrogen loading in Chesapeake Bay, reduce emissions from sources in AEP's vehicle fleet, and other projects to be directed by settling states.

The States of Connecticut, Maryland, New Hampshire, New Jersey, New York, Rhode Island, Vermont, and the Commonwealth of Massachusetts have signed the Consent Decree as co-plaintiffs, as have the following citizens groups: Citizens Action Coalition of Indiana, Clean Air Council, Hossier Environmental Council, Indiana Wildlife Federation, Izaak Walton League of America, League of Ohio Sportsmen, National Wildlife Federation, Natural Resources Defense Council, Inc., Ohio Citizen Action, Ohio Valley Environmental Coalition, Sierra Club, United States Public Interest Research Group, and West Virginia Environmental Council.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. department of Justice. Washington, DC 20044-7611, and should refer to United States, et al, v. American Electric Power Service Corporation, et al., D.J. Ref. 90-5-2-1-06893.

The Consent Decree may be examined at the Office of the United States Attorney for the Southern District of Ohio, located at 303 Marconi Boulevard, Suite 200, Columbus, Ohio 43215; at U.S. EPA Region 3, 1650 Arch Street, Philadelphia, Pennsylvania 19103-2029; at U.S. EPA Region 4, Sam Nunn Atlanta Federal Center, 61 Forsyth Street, SW., Atlanta, Georgia 30303-8960; or at U.S. EPA Region 5, 77 W. Jackson Blvd., Chicago, Illinois 60604-4590. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov, fax no. (202) 514-0097, phone confirmation number (202) 514-1547. In requesting a copy from the Consent Decree Library, please enclose a check in the amount of $30.25 (25 cents per page reproduction cost) payable to the U.S. Treasury.

Bruce S. Gelber,
Chief, Environmental Enforcement Section, Environment and Natural Resources Division.

[FR Doc. 07-5126 Filed 10-16-07; 8:45 am]

BILLING CODE 4410-15-M